DEPARTMENT OF THE INTERIOR

National Park Service

[NPS-WASO-NAGPRA-NPS0037244; PPWOCRADN0-PCU00RP14.R50000]

Notice of Intent To Repatriate Cultural Items Amendment: University of Pennsylvania Museum of Archaeology and Anthropology, Philadelphia, PA

AGENCY: National Park Service, Interior.

ACTION: Notice; amendment.

SUMMARY: The University of Pennsylvania Museum of Archaeology and Anthropology (Penn Museum) is rescinding specific paragraphs in a Notice of Intent to Repatriate Cultural Items published in the Federal Register on February 16, 2011.

FOR FURTHER INFORMATION CONTACT: Dr. Christopher Woods, Williams Director, University of Pennsylvania Museum of Archaeology and Anthropology, 3260 South Street, Philadelphia, PA 19104-6324, telephone (215) 898-4050, email director@Pennmuseum.org.

SUPPLEMENTARY INFORMATION: Notice was previously given in accordance with the Native American Graves Protection and Repatriation Act (NAGPRA) of the intent to repatriate five cultural items removed from Sitka, AK.

This notice is published as part of the National Park Service's administrative responsibilities under NAGPRA. The determinations in this notice are the sole responsibility of the Penn Museum. The National Park Service is not responsible for the determinations in this notice. Additional information on the amendments and determinations in this notice, including the results of consultation, can be found in the summary or related records held by the Penn Museum.

Amendment

This notice removes five cultural items from a published in a Notice of Intent to Repatriate Cultural Items in the Federal Register (76 FR 9049-9051, February 16, 2011). Repatriation of five cultural items in the original Notice of Intent to Repatriate Cultural Items has not occurred. In the Federal Register (76 FR 9050, February 16, 2011), paragraphs 3 through 11 are removed. The five cultural items are one Wolf Helmet (catalog number NA8507), one Shark Helmet (29-1-1), one Ganook Hat (NA6864), one Noble Killer Hat (NA11741), and one Eagle Hat (NA11742). This amendment is being made upon the resolution of a competing claim for the five Tlingit Kaagwaantaan Clan cultural items. A new notice of intent to repatriate cultural items will follow.

The Penn Museum is responsible for sending a copy of this notice to the Central Council of Tlingit and Haida Indian Tribes of Alaska, a Federally-recognized Indian Tribe, acting on behalf of the Tlingit Kaagwaantaan Clan of Sitka, AK.

Authority: Native American Graves Protection and Repatriation Act, 25 U.S.C. 3003, and the implementing regulations, 43 CFR 10.8, 10.10, 10.13, and 10.14.

Dated: January 9, 2024.
Melanie O'Brien,
Manager, National NAGPRA Program.

[FR Doc. 2024-00612 Filed 1-12-24; 8:45 am]

BILLING CODE 4312-52-P